DEPARTMENT OF HEALTH AND HUMAN SERVICES

Centers for Medicare & Medicaid Services

[Document Identifier: CMS-10314, CMS-264-94, CMS-1728-94, CMS-10240 and CMS-P-0015A]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Medicare Savings Program Protection from Medicaid Estate Recovery—State Plan Pre-print under Title XIX. Form No: CMS-10314 (OMB# 0938-New); Use: Section 115 of the Medicare Improvements for Patients and Providers Act (MIPPA)—2008, provides new protections from Medicaid estate recovery for limited categories of dual eligibles age 55 and over. To offer these protections, States have to amend their Medicaid State plans to reflect these new limits on estate recovery. To reduce paperwork burden and expedite this process, CMS is providing States with a pre-printed document (i.e., a State plan preprint) which neither needs nor requires any insertion of language or even completion of a check-off box. As Section 115 simply mandates compliance (there is no option not to comply), States only need return the preprint page (as prepared by CMS) to CMS, as a requested amendment to their State Plan. This is a one-time only submission, with little burden imposition and complete electronic routing to and from States. Frequency: Reporting—Once; Affected Public: State, Local or Tribal Governments; Number of Respondents: 51; Total Annual Responses: 51; Total Annual Hours: 102. (For policy questions regarding this collection contact Nancy Dieter at 410-786-7219. For all other issues call 410-786-1326.)

2. Type of Information Collection Request: Extension of a currently approved collection; Title of Information Collection: Independent Renal Dialysis Facility Cost Report; Use: The Independent Renal Dialysis Facility Cost Report, is filed annually by providers participating in the Medicare program to identify the specific items of cost and statistics of facility operation that independent renal dialysis facilities are required to report. Form Number: CMS-265-94 (OMB#: 0938-0236); Frequency: Yearly; Affected Public: Business or other for-profits and Not-for-profit institutions; Number of Respondents: 5,508; Total Annual Responses: 5,508; Total Annual Hours: 275,400. (For policy questions regarding this collection contact Gail Duncan at 410-786-7278. For all other issues call 410-786-1326.)

3. Type of Information Collection Request: Extension of a currently approved collection; Title of Information Collection: Home Health Agency Cost Report; Use: These cost report forms are filed annually by freestanding providers participating in the Medicare program to effect year end cost settlement for providing services to Medicare beneficiaries. The data submitted on the cost reports supports management of Federal programs. Providers receiving Medicare reimbursement must provide adequate cost data based on financial and statistical records which can be verified by qualified auditors. The data from these cost reporting forms will be used for the purpose of evaluating current levels of Medicare reimbursement. Form Number: CMS-1728-94 (OMB#: 0938-0022); Frequency: Yearly; Affected Public: Business or other for-profits and Not-for-profit institutions; Number of Respondents: 7,479; Total Annual Responses: 7,479; Total Annual Hours: 1,690,254. (For policy questions regarding this collection contact Angela Havrilla at 410-786-4516. For all other issues call 410-786-1326.)

4. Type of Information Collection Request: Revision of a currently approved collection; Title of Information Collection: Data Collection for the Nursing Home Value-Based Purchasing (NHVBP) Demonstration; Use: The goal of the NHVBP Demonstration is to use financial incentives to improve the quality of care in nursing homes. The main purpose of the NHVBP data collection effort is to gather information that will enable CMS to determine which nursing homes will be eligible to receive incentive payments under the NHVBP Demonstration. Information will be collected from nursing homes participating in the demonstration on an ongoing basis. CMS will collect payroll-based staffing, agency staffing and resident census information to help assess the quality of care in participating nursing homes. CMS will determine which homes qualify for an incentive payment based on their relative performance in terms of quality. Form Number: CMS-10240 (OMB#: 0938-1039); Frequency: Quarterly; Affected Public: Business or other for-profits and Not-for-profit institutions; Number of Respondents: 178; Total Annual Responses: 712; Total Annual Hours: 5,530. (For policy questions regarding this collection contact Ron Lambert at 410-786-6624. For all other issues call 410-786-1326.)

5. Type of Information Collection Request: Revision of a currently approved collection; Title of Information Collection: Medicare Current Beneficiary Survey; Use: The Medicare Current Beneficiary Survey (MCBS) serves to measure what impact the changes have on the program and its beneficiaries. The MCBS is a comprehensive data collection effort that fills an information gap in the Centers for Medicare and Medicaid Services, and is depended on to help manage the program. Being able to examine various characteristics and to chart evolving trends offers policy makers a reliable tool for making informed decisions. The MCBS is used to identify potential new policy direction or modifications to the Medicare program and once those program enhancements are implemented, monitor the impact of those changes. The central goals of the MCBS are to determine medical care expenditures and sources of payment for all services, including copayments, deductibles, and non-covered services; to ascertain all types of health insurance coverage and relate coverage to actual payments; and to trace processes over time, such as changes in health status, spending down to Medicaid eligibility, and the impacts of program changes. Form Number: CMS-P-0015A (OMB#: 0938-0568); Frequency: Yearly; Affected Public: Business or other for-profits and Not-for-profit institutions; Number of Respondents: 16,217; Total Annual Responses: 48,650; Total Annual Hours: 57,062. (For policy questions regarding this collection contact William Long at 410-786-7927. For all other issues call 410-786-1326.)

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by July 27, 2010:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: May 21, 2010.
Martique Jones,
Director, Regulations Development Division-B, Office of Strategic Operations and Regulatory Affairs.

[FR Doc. 2010-12624 Filed 5-27-10; 8:45 am]

BILLING CODE 4120-01-P